DEPARTMENT OF VETERANS AFFAIRS

[OMB Control No. 2900-0176]

Agency Information Collection Activity Under OMB Review: Certification of Training Hours, Wages, and Progress

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review Open for Public Comments” or by using the search function. Refer to “OMB Control No. 2900-0176.

FOR FURTHER INFORMATION CONTACT: Maribel Aponte, Office of Enterprise and Integration, Data Governance Analytics (008), 1717 H Street NW, Washington, DC 20006, (202) 266-4688 or email maribel.aponte@va.gov. Please refer to “OMB Control No. 2900-0176” in any correspondence.

SUPPLEMENTARY INFORMATION:

Authority: 38 U.S.C. 501(a), and 38 U.S.C. 3677.

Title: Certification of Training Hours, Wages, and Progress, VA Form 28-1905c.

OMB Control Number: 2900-0176.

Type of Review: Reinstatement of a previously approved collection.

Abstract: VA Form 28-1905c, Certification of Training Hours, Wages, and Progress is used to maintain adequate records for on-the job and other specialized training programs to include the claimant's monthly progress and attendance under 38 U.S.C. 3677. This information is essential to track the type and hours of training, as well as the rating of the claimant's performance toward the completion of his or her training program under 38 U.S.C. Chapter 31 and 38 U.S.C Chapter 35. Without the information gathered on this form, benefits could be delayed under 38 U.S.C. 501(a).

An agency may not conduct or sponsor, and a person is not required to respond to a collection of information unless it displays a currently valid OMB control number. The Federal Register Notice with a 60-day comment period soliciting comments on this collection of information was published at 86 FRN 65, on April 7, 2021, page 18122.

Affected Public: Individuals or Households.

Estimated Annual Burden: 400 hours.

Estimated Average Burden per Respondent: 15 minutes.

Frequency of Response: On occasion.

Estimated Number of Respondents: 1,600.

By direction of the Secretary.
Maribel Aponte,
VA PRA Clearance Officer, Office of Enterprise and Integration, Data Governance Analytics, Department of Veterans Affairs.

[FR Doc. 2021-12106 Filed 6-8-21; 8:45 am]

BILLING CODE 8320-01-P